DEPARTMENT OF COMMERCE

National Oceanic and Atmospheric Administration

[Docket No. 0907021106-91110-01]

RIN 0648-ZC09

Northeast Region Fishing Gear Exchange Project

AGENCY: National Marine Fisheries Service (NMFS), National Oceanic and Atmospheric Administration (NOAA), Commerce.

ACTION: Notice of funding availability.

SUMMARY: Right, humpback and fin whales, which are listed as endangered under the Endangered Species Act, are occasionally injured or killed through incidental entanglement in fishing gear. Based on gear retrieved from entangled whales, interactions can occur with any component of the fishing gear, including buoy lines, groundlines, gillnet floatlines, and surface systems. Provisions of the Atlantic Large Whale Take Reduction Plan (ALWTRP) require that permit holders using trap/pot and gillnet gear comply with requirements designed to reduce the serious injury and mortality of large whales. One such gear modification requires the use of sinking groundlines. Other risk reduction measures include adding weak links to fixed fishing gear which can assist entangled whales in breaking free after an interaction has occurred.

NMFS is providing financial assistance in the form of a grant to support the development and implementation of a fishing gear exchange project for Lobster Management Areas 2 and 3 in the Northeast Region. This document describes how to submit proposals for funding and how NMFS will determine which proposals will be funded; this document should be read in its entirety prior to the submission of a proposal.

This project will support NOAA's mission goal to protect, restore, and manage the use of coastal and ocean resources through an ecosystem approach to management.

DATES: Applications must be postmarked, provided to a delivery service or received by http://www.grants.gov by 11:59 p.m. Eastern Daylight Time on July 30, 2009. Use of U.S. Mail or another delivery service must be documented with a receipt. Please note that it may take Grants.gov up to two business days to validate or reject an application. Please keep this in mind when developing your submission timeline.

ADDRESSES: The Full Funding Opportunity (FFO) announcement and application instructions for this grant program are available through the Grants.gov website at http://www.grants.gov. For applicants without internet access, an application package may be obtained by contacting Amanda Johnson, NOAA's National Marine Fisheries Service, Northeast Regional Office, 55 Great Republic Drive, Suite 04-400, Gloucester, MA 01930; Phone: 978-282-8463, E-mail: Amanda.Johnson@noaa.gov.

Applications should be submitted electronically through the Grants.gov website at http://www.grants.gov. Those applicants without internet access may submit a hard copy (by postal mail or commercial delivery) to: NMFS Northeast Regional Office, Attn: Amanda Johnson, 55 Great Republic Drive, Suite 04-400, Gloucester, MA 01930. No other methods of submission are permissible without explicit NOAA approval.

FOR FURTHER INFORMATION CONTACT: If you have any questions regarding this proposal solicitation, please contact Amanda Johnson at the NOAA/NMFS/Northeast Regional Office, Protected Resources Division, 55 Great Republic Drive, Suite 04-400, Gloucester, MA 01930, by phone at 978-282-8463, or by email at Amanda.Johnson@noaa.gov.

SUPPLEMENTARY INFORMATION:

Background

The principal objective of the Northeast Region Fishing Gear Exchange Project is to implement a voluntary fishing gear exchange project in which participating fishing industry members regulated by the ALWTRP are provided with financial assistance to comply with the ALWTRP's sinking groundline and weak link requirements. Another objective of this project is to develop a plan for recycling the collected floating groundline to ensure that none of the lines are returned to the ocean for any purpose, fishing or otherwise. A third objective is to work cooperatively with participating industry members to collect gear configuration information via a gear survey.

For a proposal to be competitive, it must demonstrate a clear process for developing and implementing a successful fishing gear exchange project. This includes notifying, registering, and communicating with participating fishing industry members; approximating the amount of floating groundline to be exchanged and determining an assigned price per pound for the delivered groundline; working with gear manufacturers and distributors to gain their participation in the project; determining appropriate times and locations for gear collections based on industry needs and responses; determining the appropriate methods to collect, handle, and recycle the collected floating groundline; and determining the appropriate methods to assist in the purchase of weak links. A number of floating groundline buyback and recycling projects have been completed or are on-going along the East Coast of the U.S. These have taken place in Maine, Massachusetts, and New York, as well as in the Mid-Atlantic region (including the states of New Jersey, Delaware, Maryland, Virginia, and a portion of North Carolina) and have been administered by a variety of groups, including non-profit organizations, state and federal government agencies. A successful proposal will incorporate the successful components of these projects.

In addition, competitive proposals must demonstrate the applicant's good rapport with the fishing industry in the Northeast Region and ability to handle a project of this magnitude. Proposals must also demonstrate the ability to maximize the percentage of the award funding that is spent assisting fishermen in complying with the ALWTRP requirements, based on the differences in costs of floating versus sinking line and on the costs of complying with weak link requirements. This includes gauging potential participation by eligible fishermen and, based on this and other costs of the project, determining the appropriate figure for reimbursing fishermen for the floating groundline they have brought forward to exchange (e.g., providing $1.50 per pound of line turned in, etc.). It also includes determining the most appropriate methods for providing assistance for participating fishermen to comply with weak link requirements.

The project will also incorporate recordkeeping and information collection. Information must be collected related to participating fishermen to document the amount of line exchanged, among other components. Additionally, the project will include a gear survey that will help NMFS better quantify information about vertical lines. This information will assist in the management of fishing gear interactions with large whales.

Electronic Access

The full text of the Full Funding Opportunity announcement for this program can be accessed via the Grants.gov web site at http://www.grants.gov. The announcement will also be available by contacting the program officials identified under FOR FURTHER INFORMATION CONTACT. Applicants must comply with all requirements contained in the Full Funding Opportunity announcement.

Statutory Authority

The statutory authority for this project can be found at 16 U.S.C. 661 and 16 U.S.C. 1881c.

Catalog of Federal Domestic Assistance (CFDA)

The Catalog of Federal Domestic Assistance program number for this solicitation is 11.452, Unallied Industry Projects.

Funding Availability

NOAA anticipates that up to $3 million may be available for this project in the NMFS fiscal year 2009 budget. A grant will be awarded for the amount of funding in its entirety to the successful applicant. Therefore, all proposals should be developed to request the entire $3 million. The exact amount of funds that may be awarded will be determined during pre-award negotiations between the applicant and NOAA representatives. Publication of this notice does not oblige NOAA to award any specific grant proposal or to obligate any available funds. If an application for a financial assistance award is selected for funding, NOAA has no obligation to provide any additional funding in connection with that award in subsequent years.

Eligibility

Eligible applicants are institutions of higher education, other nonprofits, commercial organizations, and state, local and Indian tribal governments. Federal agencies or institutions are not eligible to receive Federal assistance under this notice.

Cost Sharing Requirements

No cost sharing or matching is required for this project.

Evaluation and Selection Procedures

The general evaluation criteria and selection factors that apply to applications to this funding opportunity are summarized below. Further information about the evaluation criteria and selection factors can be found in the Full Funding Opportunity announcement.

Evaluation Criteria for Projects

The proposals will be evaluated and scored based on the following weighted criteria (each proposal can receive a total score between 1 and 5 points):

1) Importance and/or relevance and applicability of the proposed project to the program goals (weight=30%): This criterion ascertains whether there is intrinsic value in the proposed work and/or relevance to NOAA, Federal, regional, State, or local activities. For this competition, the proposal should demonstrate that the applicant has a clear knowledge and understanding of the purpose and relevance of the proposed work. It should also demonstrate an ability to provide economic assistance to the Northeast Region's commercial fishing industry affected by the ALWTRP, while providing benefits to large whale species. For this criterion, reviewers will base their assessments on the following scoring system: 1 = lack of importance/relevance; 3 = intermediate level importance/relevance; 5 = very important/relevant.

2) Technical/scientific merit (weight=35%): This criterion assesses whether the approach is technically sound and/or innovative, if the methods are appropriate, and whether there are clear project goals and objectives. The proposal should clearly address the program priorities and components that were discussed earlier in this document, including designing a gear survey in conjunction with NMFS. For this criterion, reviewers will base their assessments on the following scoring system: 1 = completely unsound, unlikely to meet the project's objectives; 3 = intermediately sound, reasonably likely to meet the project's objectives; 5 = extremely sound and likely to meet the project's objectives.

3) Overall qualifications of applicants (weight=10%): This ascertains whether the applicant possesses the necessary education, experience, training, facilities, and administrative resources to accomplish the project. For this competition, the proposal should demonstrate coordination with other agencies and groups that have conducted gear exchange projects in the past or are currently implementing such projects. For this criterion, reviewers will base their assessments on the following scoring system: 1 = lack of qualification and/or resources to accomplish project; 3 = intermediate level of qualification and/or resources to accomplish project; 5 = extremely qualified and able to accomplish project.

4) Project costs (weight=15%): The budget is evaluated to determine if it is realistic and commensurate with the project needs and time-frame. For this competition, one project will be awarded the entire amount of available funding. Therefore, the budget should reflect the ability of the work to be completed with the funding amount and timing proposed. Additionally, the budget should maximize to the fullest extent possible the amount of financial assistance that is being provided to the fishermen who participate in the project. For this criterion, reviewers will base their assessments on the following scoring system: 1 = lack of information and detail provided, unrealistic; 3 = sufficient amount of information and detail provided, realistic; 5 = extremely informative, detailed, and realistic.

5) Outreach and education (weight=10%): NOAA assesses whether this project provides a focused and effective education and outreach strategy regarding NOAA's mission to protect the Nation's natural resources. For this competition, the proposal should describe how outreach and education for this project will be conducted to maximize the number of gear exchange participants from the fishing industry. Collaborations with other agencies and partners to accomplish this component should also be described. The applicant should provide a draft gear survey with the proposal for evaluation and final approval by NMFS. For this criterion, reviewers will base their assessments on the following scoring system: 1 = insufficient outreach/education; 3 = adequate outreach/education; 5 = extremely effective outreach/education.

Review and Selection Process

Screening, review, and selection procedures will take place in 3 steps: initial evaluation, merit review, and final selection by the Selecting Official (i.e., the NMFS Regional Administrator in the Northeast). Initial evaluation of applications will be conducted to ensure that the submitted application packages contain the required forms and application elements and meet the eligibility criteria.

Applications meeting the requirements of this solicitation will then undergo merit review. Each application will be reviewed by a minimum of three reviewers, who will independently evaluate and score proposals using the evaluation criteria provided in the “Evaluation Criteria for Projects” section. Merit reviewers will be federal employees with appropriate subject-matter expertise. The reviewers' ratings will be used to produce a rank order of the proposals.

After applications have undergone merit review, the Selecting Official will make the final decision regarding which applications will be recommended to the NOAA Grants Officer for funding based upon the numerical rankings and evaluations of the applications by the merit reviewers, as well as the selection factors set forth in the “Selection Factors for Projects” section.

Selection Factors for Projects

The Selecting Official shall award in the rank order of the review ratings unless the proposal is justified to be selected out of rank order based upon the following factors, where applicable:

1. Availability of funding.

2. Balance/distribution of funds:

a. Geographically.

b. By type of institutions.

c. By type of partners.

d. By research areas.

e. By project types.

3. Whether this project duplicates other projects funded or considered for funding by NOAA or other Federal agencies.

4. Program priorities and policy factors.

5. Applicant's prior award performance.

6. Partnerships and/or participation of targeted groups.

7. Adequacy of information necessary for NOAA staff to make a NEPA determination and draft necessary documentation before recommendations for funding are made to the Grants Officer.

Classification

Executive Order 12373

Applications under this program are subject to Executive Order 12372, “Intergovernmental Review of Federal Programs.” Any applicant submitting an application for funding is required to complete item 16 on SF-424 regarding clearance by the State Single Point of Contact (SPOC) established as a result of EO 12372. To find out about and comply with a State's process under EO 12372, the names, addresses and phone numbers of participating SPOC's are listed on the Office of Management and Budget's home page at: http://www.whitehouse.gov/omb/grants/spoc.html.

Limitation of Liability

In no event will NOAA or the Department of Commerce be responsible for proposal preparation costs if these programs fail to receive funding or are cancelled because of other agency priorities. Publication of this announcement does not oblige NOAA to award any specific project or to obligate any available funds.

National Environmental Policy Act (NEPA) Review

NOAA must analyze the potential environmental impacts, as required by the National Environmental Policy Act (NEPA), for applicant projects or proposals which are seeking NOAA federal funding opportunities. Detailed information on NOAA compliance with NEPA can be found at the following NOAA NEPA website: http://www.nepa.noaa.gov/, including our NOAA Administrative Order 216-6 for NEPA, http://www.osec.doc.gov/bmi/daos/216-6.htm, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements

The Department of Commerce Pre-Award Notification Requirements for Grants and Cooperative Agreements contained in the Federal Register notice of February 11, 2008 (73 FR 7696), are applicable to this solicitation.

Paperwork Reduction Act

This document contains collection-of-information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001.

Notwithstanding any other provision of law, no person is required to, nor shall a person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: July 9, 2009.
Gary Reisner,
Director, Office of Management and Budget, National Marine Fisheries Service.

[FR Doc. E9-16813 Filed 7-15-09; 8:45 am]

BILLING CODE 3510-22-S